DEPARTMENT OF ENERGY

Federal Energy Regulatory Commission

[Docket No. PF06-21-000]

Guardian Pipeline, L.L.C.; Notice of Intent To Prepare an Environmental Impact Statement for the Proposed Guardian Expansion/Extension Project, Request for Comments on Environmental Issues, and Notice of Public Scoping Meetings

May 19, 2006.

The staff of the Federal Energy Regulatory Commission (FERC or Commission) will prepare an environmental impact statement (EIS) that will address the environmental impacts of the Guardian Expansion/Extension Project (G-II) proposed by Guardian Pipeline L.L.C (Guardian). The Commission will use the EIS in its decision-making process to determine whether or not to authorize the project. This notice explains the scoping process the Commission will use to gather input from the public and interested agencies on the project. Your input will help us determine the issues that need to be evaluated in the EIS. Please note that the scoping period will close on June 23, 2006.

Comments may be submitted in written form or verbally. Further details on how to submit written comments are provided in the Public Participation section of this notice. In lieu of sending written comments, we invite you to attend the public scoping meetings we have scheduled as follows:

Date and time | Location
Monday, June 12, 2006 7 p.m. to 10 p.m. (CDT) | Radisson Hotel and Conference Center of Green Bay 2040 Airport Drive Green Bay, WI US (920) 405-6404.
Tuesday, June 13, 2006 7 p.m. to 10 p.m. (CDT) | Ramada Plaza Hotel 1 North Main Street Fond Du Lac, WI 54935 (920) 923-3000.
Wednesday, June 14, 2006 7 p.m. to 10 p.m. (CDT) | Olympia Conference Center 1350 Royale Mile Road Oconomowoc, WI 53066 (262) 369-4969.

This notice is being sent to affected landowners; Federal, state, and local government agencies; elected officials; environmental and public interest groups; Native American tribes; other interested parties; and local libraries and newspapers. We encourage government representatives to notify their constituents of this planned project and encourage them to comment on their areas of concern.

If you are a landowner receiving this notice, you may be contacted by a Guardian representative about the acquisition of an easement to construct, operate, and maintain the proposed project facilities. The pipeline company would seek to negotiate a mutually acceptable agreement. However, if the project is approved by the FERC, that approval conveys with it the right of eminent domain. Therefore, if easement negotiations fail to produce an agreement, the pipeline company could initiate condemnation proceedings in accordance with state law.

A fact sheet prepared by the FERC entitled “An Interstate Natural Gas Facility on My Land? What Do I Need To Know?” is available for viewing on the FERC Internet Web site (http://www.ferc.gov). This fact sheet addresses a number of typically asked questions, including the use of eminent domain and how to participate in the FERC's proceedings.

Summary of the Proposed Project

Guardian proposes to construct, own, operate, and maintain:

• Approximately 105.8 miles of new natural gas pipeline; about 79.2 miles of which consist of 30-inch-diameter pipeline, and the remaining 26.6 miles would consist of 20-inch-diameter pipeline. The proposed pipeline would originate at Ixonia in northeastern Jefferson County, Wisconsin and travel in a general north-northeast direction through Dodge, Fond du Lac, Calumet, Brown, and Outagamie Counties, Wisconsin, terminating at a point just west of Green Bay. The six proposed meter stations would be located along the proposed expansion route in Jefferson, Dodge, Fond du Lac, Calumet, Brown, and Outagamie Counties, Wisconsin.

• One new 39,000-horsepower (hp) compressor station near Sycamore Illinois; the proposed compressor station would be located along the existing Guardian pipeline route in De Kalb County, Illinois.

• One new 39,000-hp compressor station in Walworth, Wisconsin. The proposed compressor station would be located along the proposed G-II pipeline route in Walworth County, Wisconsin.

• Six new meter stations, and associated pipeline facilities including pig launcher/receivers and five mainline valves.

Guardian states that the project would provide about 537,200 decatherms per day of additional natural gas capacity to Guardian's existing pipeline system. Guardian indicates that the proposed additional capacity would facilitate the transport of natural gas to customers within the state of Wisconsin and provide those customers with the necessary infrastructure to support growth, choice, and competition within the natural gas marketplace. Guardian proposes to have the project constructed and operational by November 2008.

The general location of the proposed pipeline and associated facilities are shown in the figure included as Appendix 1.¹

¹ The appendices referenced in this notice are not being printed in the Federal Register. Copies of all appendices, other than Appendix 1 (maps), are available on the Commission's Web site at the “eLibrary” link or from the Commission's Public Reference Room, 888 First Street, NE., Washington, DC 20426, or call (202) 502-8371. For instructions on connecting to eLibrary refer to the Public Participation section of this notice. Copies of the appendices were sent to all those receiving this notice in the mail. Requests for detailed maps of the proposed facilities should be made directly to Guardian.

Nonjurisdictional Facilities

In addition to the facilities proposed by Guardian, the proposed project has associated facilities that do not come under the jurisdiction of the Commission. These related “nonjurisdictional” facilities include:

• The Wisconsin Public Service Corporation (WPSC) proposes to construct three lateral pipelines to interconnect with the G-II pipeline expansion segment and conduct modifications to WPSC's existing West Green Bay Line including a tie-in to an existing WPSC 12-inch feeder pipeline and the addition of flow controls. The three proposed laterals include the following:

—Sheboygan/Plymouth Lateral—consisting of approximately 32 miles of 16- and 12-inch-diameter pipeline.

—Chilton Lateral—consisting of approximately 1 mile of 4-inch-diameter pipeline.

—Denmark Lateral—consisting of approximately 14 miles of 12-inch-diameter pipeline.

• We-Energies proposes to construct two lateral pipelines to interconnect with the G-II pipeline expansion segment. The proposed laterals include the following:

—Hartford/West Bend Lateral—consisting of approximately 12.7 miles of 8-inch-diameter pipeline.

—Fox Valley Lateral—consisting of approximately 12.6 total miles of 20-, 16-, 12-, and 8-inch-diameter pipeline.

• Commonwealth Editions Power Company (ComEd) proposes to construct approximately 2.4 miles of transmission line to bring power from an existing 138-kilovolt (kV) ComEd transmission line to Guardian's proposed Sycamore Compressor Station in De Kalb, Illinois.

• We-Energies proposes to construct up to 2 miles of transmission line to bring power from an existing 138-kV We-Energies transmission line to Guardian's proposed Bluff Creek Compressor Station in Walworth, Wisconsin.

The WPSC and We-Energies laterals and electric transmission line facilities and the ComEd electric transmission line facility will be under the jurisdiction of the Wisconsin Public Service Commission (WIPSC) and the Illinois Commerce Commission, respectively.We ² have determined that these nonjurisdictional facilities will be discussed in the EIS. At this time, the WIPSC and the Wisconsin Department of Natural Resources have agreed to participate as participating agencies in the EIS process.

² “We,” “us,” and “our” refer to the environmental staff of the FERC's Office of Energy Projects.

Land Requirements for Construction

As proposed, the typical construction right-of-way for the project pipeline would be between 80 to 110 feet wide. An 80-foot right-of-way is proposed for the 26.6 miles of 20-inch pipe and a 110-foot right-of-way is proposed for the 79.2 miles of 30-inch pipe. Following construction, Guardian would retain a 50-foot-wide permanent right-of-way for operation of the project. Additional, temporary extra workspaces beyond the typical construction right-of-way limits would be required at certain feature crossings (e.g., roads, railroads, wetlands, or waterbodies), in areas with steep side slopes, or in association with special construction techniques.

Based on preliminary information, construction of the proposed project facilities would affect a total of about 1336.9 acres of land (including construction right-of-ways and aboveground facilities). This does not include land that would be disturbed by temporary work spaces and lay down areas, which is still being determined. Following construction, about 641.2 acres would be maintained as permanent right-of-way, and about 23 acres of land would be maintained as new aboveground facility sites. The remaining 672.7 acres of temporary construction rights-of-way and any other additional areas required for extra workspaces, pipe storage or contractor yards would be restored and allowed to revert to its former use.

The EIS Process

The National Environmental Policy Act (NEPA) requires the Commission to take into account the environmental impacts that could result from an action when it considers whether or not an interstate natural gas pipeline should be approved. The FERC will use the EIS to consider the environmental impact that could result if Guardian's G-II Project is authorized under section 7 of the Natural Gas Act. NEPA also requires us to discover and address concerns the public may have about proposals to be considered by the Commission. This process is referred to as “scoping.” The main goal of the scoping process is to focus the analysis in the EIS on the important environmental issues. With this Notice of Intent, the Commission staff is requesting public comments on the scope of the issues to be addressed in the EIS. All comments received will be considered during preparation of the EIS.

Our independent analysis of the issues will be included in a draft EIS. We will also evaluate possible alternatives to the proposed project or portions of the project, and make recommendations on how to lessen or avoid impacts on affected resources.

The draft EIS will be mailed to Federal, state, and local government agencies; elected officials; environmental and public interest groups; Native American tribes; affected landowners; commentors; other interested parties; local libraries and newspapers; and the FERC's official service list for this proceeding. A 45-day comment period will be allotted for review of the draft EIS. We will consider all comments on the draft EIS and revise the document, as necessary, before issuing a final EIS. We will consider all comments on the final EIS before we make our recommendations to the Commission. To ensure that your comments are considered, please follow the instructions in the Public Participation section of this notice.

Although no formal application has been filed, the FERC staff has already initiated its NEPA review under its Pre-filing Process. The purpose of the Pre-filing Process is to encourage the early involvement of interested stakeholders and to identify and resolve issues before an application is filed with the FERC.

With this notice, we are asking Federal, state, and local governmental agencies with jurisdiction and/or special expertise with respect to environmental issues, to express their interest in becoming cooperating agencies for the preparation of the EIS. These agencies may choose to participate once they have evaluated the proposal relative to their responsibilities. Agencies that would like to request cooperating status should follow the instructions for filing comments provided below (see Public Participation).

Currently Identified Environmental Issues

The EIS will discuss impacts that could occur as a result of the construction and operation of the proposed project. We have already identified several issues that we think deserve attention based on a preliminary review of the project site and the facility information provided by Guardian. This preliminary list of issues may be changed based on your comments and our analysis.

• Potential effects on prime farmland soils and soils with a high potential for compaction.

• Potential effects on waterbodies designated under federal and/or state programs.

• Evaluation of temporary and permanent impacts on wetlands and development of appropriate mitigation.

• Native American and tribal concerns, including crossing of the Oneida Nation Indian Reservation.

• Potential impacts to fish and wildlife habitat, including waterbird nesting areas along major river crossings.

• Potential effect on federally and state-listed species.

• Potential impacts to existing land uses, including agricultural, certified organic farms, and managed forested lands.

• Potential visual effects of the aboveground facilities on surrounding areas.

• Potential impacts and potential benefits of construction workforce on local housing, infrastructure, public services, and economy.

• Potential impacts to local air and noise quality associated with construction and operation.

• Alternative alignments for the pipeline route and alternative sites for the compressor stations.

Public Participation

You can make a difference by providing us with your specific comments or concerns about the proposed project. By becoming a commentor, your concerns will be addressed in the EIS and considered by the Commission. Your comments should focus on the potential environmental effects, reasonable alternatives (including alternative facility sites and pipeline routes), and measures to avoid or lessen environmental impact. The more specific your comments, the more useful they will be. To ensure that your comments are timely and properly recorded, please carefully follow these instructions:

• Send an original and two copies of your letter to: Magalie R. Salas, Secretary, Federal Energy Regulatory Commission, 888 First St., NE., Room 1A, Washington, DC 20426.

• Label one copy of your comments for the attention of Gas Branch 1.

• Reference Docket No. PF06-21-000 on the original and both copies.

• Mail your comments so that they will be received in Washington, DC on or before June 23, 2006.

The Commission strongly encourages electronic filing of any comments in response to this Notice of Intent. For information on electronically filing comments, please see the instructions on the Commission's Web site at http://www.ferc.gov under the “e-Filing” link and the link to the User's Guide, as well as information in 18 CFR 385.2001(a)(1)(iii). Before you can submit comments you will need to create a free account, which can be created on-line.

The public scoping meetings (dates, times, and locations are listed above) are designed to provide another opportunity to offer comments on the proposed project. Interested groups and individuals are encouraged to attend the meetings and to present comments on the environmental issues they believe should be addressed in the EIS. A transcript of each meeting will be generated so that your comments will be accurately recorded.

Once Guardian formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “e-filing” link on the Commission's Web site. Please note that you may not request intervenor status at this time. You must wait until a formal application is filed with the Commission.

Environmental Mailing List

An effort is being made to send this notice to all individuals, organizations, and government entities interested in and/or potentially affected by the proposed project. This includes all landowners who are potential right-of-way grantors, whose property may be used temporarily for project purposes, or who own homes within distances defined in the Commission's regulations of certain aboveground facilities.

If you received this notice, you are on the environmental mailing list for this project. If you do not want to send comments at this time, but still want to remain on our mailing list, please return the Information Request (Appendix 2). If you do not return the Information Request, you will be removed from the Commission's environmental mailing list.

Availability of Additional Information

Additional information about the project is available from the Commission's Office of External Affairs, at 1-866-208-FERC (3372) or on the FERC Internet Web site (http://www.ferc.gov) using the “eLibrary link.” Click on the eLibrary link, select “General Search” and enter the project docket number excluding the last three digits (i.e., PF06-21) in the “Docket Number” field. Be sure you have selected an appropriate date range. For assistance, please contact FERC Online Support at FERCOnlineSupport@ferc.gov or toll free at 1-866-208-3676, or TTY, contact (202) 502-8659. The eLibrary link on the FERC Internet Web site also provides access to the texts of formal documents issued by the Commission, such as orders, notices, and rule makings.

In addition, the FERC now offers a free service called eSubscription that allows you to keep track of all formal issuances and submittals in specific dockets. This can reduce the amount of time you spend researching proceedings by automatically providing you with notification of these filings, document summaries, and direct links to the documents. To register for this service, go to http://www.ferc.gov/esubscribenow.htm.

Public meetings or site visits will be posted on the Commission's calendar located at http://www.ferc.gov/EventCalendar/EventsList.aspx along with other related information.

Finally, Guardian has established an Internet website for this project at http://www.guardianpipeline.com/. The Web site includes a description of the project, a map of the proposed pipeline route, and answers to frequently asked questions. You can also request additional information or provide comments directly to Guardian at 1-866-608-7300 or mjames@landservicecompany.com.

Magalie R. Salas,
Secretary.

[FR Doc. E6-8028 Filed 5-24-06; 8:45 am]

BILLING CODE 6717-01-P